DEPARTMENT OF TRANSPORTATION

Federal Aviation Administration

14 CFR Part 39

[Docket No. 2001-NM-138-AD; Amendment 39-12383; AD 2001-16-14]

RIN 2120-AA64

Airworthiness Directives; Airbus Model A319, A320, and A321 Series Airplanes

AGENCY: Federal Aviation Administration, DOT.

ACTION: Final rule; request for comments.

SUMMARY: This amendment adopts a new airworthiness directive (AD) that is applicable to certain Airbus Model A319, A320, and A321 series airplanes. This action requires modification of the telescopic girt bar of the escape slide/raft assembly, and follow-on actions. This action is necessary to prevent failure of the escape slide/raft to deploy correctly, which could result in the slide being unusable during an emergency evacuation and consequent injury to passengers or airplane crewmembers. This action is intended to address the identified unsafe condition.

DATES: Effective August 31, 2001.

The incorporation by reference of certain publications listed in the regulations is approved by the Director of the Federal Register as of August 31, 2001.

Comments for inclusion in the Rules Docket must be received on or before September 17, 2001.

ADDRESSES: Submit comments in triplicate to the Federal Aviation Administration (FAA), Transport Airplane Directorate, ANM-114, Attention: Rules Docket No. 2001-NM-138-AD, 1601 Lind Avenue, SW., Renton, Washington 98055-4056. Comments may be inspected at this location between 9:00 a.m. and 3:00 p.m., Monday through Friday, except Federal holidays. Comments may be submitted via fax to (425) 227-1232. Comments may also be sent via the Internet using the following address: 9-anm-iarcomment@faa.gov. Comments sent via the Internet must contain “Docket No. 2001-NM-138-AD” in the subject line and need not be submitted in triplicate. Comments sent via fax or the Internet as attached electronic files must be formatted in Microsoft Word 97 for Windows or ASCII text.

The service information referenced in this AD may be obtained from Airbus Industrie, Customer Services Directorate, 1 Rond Point Maurice Bellonte, 31707 Blagnac Cedex, France. This information may be examined at the FAA, Transport Airplane Directorate, 1601 Lind Avenue, SW., Renton, Washington; or at the Office of the Federal Register, 800 North Capitol Street, NW., suite 700, Washington, DC.

FOR FURTHER INFORMATION CONTACT: Tim Dulin, Aerospace Engineer, International Branch, ANM-116, FAA, Transport Airplane Directorate, 1601 Lind Avenue, SW., Renton, Washington 98055-4056; telephone (425) 227-2141; fax (425) 227-1149.

SUPPLEMENTARY INFORMATION: The Direction Générale de l'Aviation Civile (DGAC), which is the airworthiness authority for France, notified the FAA that an unsafe condition may exist on certain Airbus Model A319, A320, and A321 series airplanes. The DGAC advises that there have been several reports of the telescopic girt bar of the slide/raft assembly detaching from the door sill fittings and preventing proper deployment of the emergency escape slide. The telescopic girt bar is designed to be retractable and removable from the door sill to ensure the raft is accessible in an emergency evacuation. The telescopic girt bar is normally locked in an extended position by a trigger mechanism that prevents retraction unless pulled. Investigation of the affected girt bars revealed that the trigger mechanism was not operational due to an incorrectly machined chamfer of the girt bar, which allowed the mechanism to retract and detach from the door sill when opening the door. Such conditions, if not corrected, could result in failure of the escape slide/raft to deploy correctly, which could result in the slide being unusable during an emergency evacuation and consequent injury to passengers or airplane crewmembers.

Following the incidents previously described, Airbus Industrie issued All Operators Telex A320-52A1110, dated April 11, 2001, to address the identified unsafe condition. However, one report was received that, during accomplishment of the functional test specified in that AOT, an operator did the scheduled slide deployment and the girt bar detached from the door sill. Investigation revealed that the chamfer was slightly out of tolerance and damage was found in the area of the trigger lever. The girt bar trigger end deviated from the production drawing and the deviation was not identified until after the AOT had been issued. Subsequently, it has been determined that the actions specified in that AOT are not sufficient to identify all defective girt bars, and a new AOT has been issued.

Explanation of Relevant Service Information

Airbus Industrie has issued AOT A320-52A1111, Revision 01, dated July 23, 2001, including Technical Disposition 959.1492/01, Issue C, dated July 17, 2001; which describes procedures for modification of the telescopic girt bar of the escape slide/raft assembly, and follow-on actions. The modification consists of rework of the trigger end of the telescopic girt bar, and installation of a U-shaped reinforcement section on the bar. The follow-on actions include repetitive inspections of the telescopic girt bar for discrepancies (damage or corrosion), and functional tests of the telescopic girt bar to ensure it does not retract when a measured force (34 to 45 pounds) is applied. If discrepancies are found, the service bulletin describes procedures for replacement of the U-shaped section or rivets with new parts.

The DGAC classified AOT A320-52A1111, dated July 5, 2001, as mandatory and issued French airworthiness directive 2001-275(B), dated July 11, 2001, in order to assure the continued airworthiness of these airplanes in France.

FAA's Conclusions

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

Explanation of Requirements of Rule

Since an unsafe condition has been identified that is likely to exist or develop on other airplanes of the same type design registered in the United States, this AD is being issued to prevent failure of the escape slide/raft to deploy correctly, which could result in the slide being unusable during an emergency evacuation and consequent injury to passengers or airplane crewmembers. This AD requires modification of the telescopic girt bar of the escape slide/raft assembly, and follow-on actions. The actions are required to be accomplished in accordance with the AOT described previously, except as discussed below.

Differences Between This AD and the AOT

The AOT specifies performing a “visual inspection” of the U-shaped section and rivet heads of the girt bar within 18 months after the modification, and repeat the inspection at intervals not to exceed 18 months. As the compliance time would allow opportunity for public comment, the FAA may consider additional rulemaking to require these inspections.

Additionally, the AOT does not describe procedures for corrective action if the telescopic girt bar retracts when performing the functional test; however, this AD requires replacement of any discrepant parts with new parts and accomplishment of another functional test after replacement of the parts to ensure the girt bar does not retract.

Interim Action

This is interim action. The manufacturer has advised that a new modification is currently being developed that will positively address the unsafe condition addressed by this AD. Once that modification is developed, approved, and available, the FAA may consider additional rulemaking.

Determination of Rule's Effective Date

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption “ADDRESSES.” All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2001-NM-138-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2001-16-14 Airbus Industrie: Amendment 39-12383. Docket 2001-NM-138-AD.

Applicability: Model A319, A320, and A321 series airplanes equipped with telescopic girt bars of the escape slide/raft assembly, as listed in Airbus Industrie All Operators Telex (AOT) A320-52A1111, Revision 01, dated July 23, 2001; certificated in any category.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (b) of this AD. The request should include an assessment of the effect of the modification, alteration, or repair on the unsafe condition addressed by this AD; and, if the unsafe condition has not been eliminated, the request should include specific proposed actions to address it.

Compliance: Required as indicated, unless accomplished previously.

To prevent failure of the escape slide/raft to deploy correctly, which could result in the slide being unusable during an emergency evacuation and consequent injury to passengers or airplane crewmembers, accomplish the following:

Modification/Follow-On Actions

(a) Within 1,500 flight hours after the effective date of this AD: Modify the telescopic girt bar of the escape slide/raft assembly installed on all passenger and crew doors and do a functional test to ensure the girt bar does not retract, per Airbus Industrie AOT A320-52A1111, Revision 01, dated July 23, 2001.

(1) If the girt bar retracts, before further flight, replace any discrepant parts and do another functional test to ensure the girt bar does not retract, per the AOT. Repeat the functional test after that at intervals not to exceed 18 months.

(2) If the girt bar does not retract, repeat the functional test as required by paragraph (a)(1) of this AD.

Note 2: Modification and follow-on actions accomplished prior to the effective date of this AD per Airbus Industrie AOT A320-52A1111, dated July 5, 2001, are considered acceptable for compliance with the applicable actions specified in this amendment.

Alternative Methods of Compliance

(b) An alternative method of compliance or adjustment of the compliance time that provides an acceptable level of safety may be used if approved by the Manager, International Branch, ANM-116, FAA, Transport Airplane Directorate. Operators shall submit their requests through an appropriate FAA Principal Maintenance Inspector, who may add comments and then send it to the Manager, International Branch, ANM-116.

Note 3: Information concerning the existence of approved alternative methods of compliance with this AD, if any, may be obtained from the Manager, International Branch. ANM-116.

Special Flight Permits

(c) Special flight permits may be issued in accordance with sections 21.197 and 21.199 of the Federal Aviation Regulations (14 CFR 21.197 and 21.199) to operate the airplane to a location where the requirements of this AD can be accomplished.

Incorporation by Reference

(d) The actions shall be done in accordance with Airbus Industrie All Operators Telex A320-52A1111, Revision 01, dated July 23, 2001, including Airbus Industrie Technical Disposition 959.1492/01, Issue C, dated July 17, 2001. All Operators Telex A320-52A1111 contains the following list of effective pages:

Page number | Revision level shown on page | Date shown on page
1-4 | 01 | July 23, 2001.
Technical Disposition 959.1492/01
1-4 | C | July 17, 2001.

This incorporation by reference was approved by the Director of the Federal Register in accordance with 5 U.S.C. 552(a) and 1 CFR part 51. Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 4: The subject of this AD is addressed in French airworthiness directive 2001-275(B) dated July 11, 2001.

Effective Date

(e) This amendment becomes effective on August 31, 2001.

Issued in Renton, Washington, on August 9, 2001.
Vi L. Lipski,
Manager, Transport Airplane Directorate, Aircraft Certification Service.

[FR Doc. 01-20590 Filed 8-15-01; 8:45 am]

BILLING CODE 4910-13-U